DEPARTMENT OF ENERGY

Federal Energy Regulatory Commission

[Docket No. EC00-98-001]

Commonwealth Edison Company; Notice of Filing

June 28, 2000.

Take notice that on June 20, 2000, Commonwealth Edison Company (ComEd) tendered for filing an amendment to the application it filed in this proceeding on May 31, 2000.

ComEd states that it has, by mail, served a copy of the amendment on the Illinois Commerce Commission and on other identified entities.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 11, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-16840 Filed 7-3-00; 8:45 am]

BILLING CODE 6717-01-M